DEPARTMENT OF THE INTERIOR

Bureau of Land Management

[WY070-1310-EJ]

Notice of Intent To Invite Public Participation in the Amendment of the Buffalo and Platte River Resource Management Plans

AGENCY: Bureau of Land Management, Interior.

ACTION: Notice of Intent To Amend the Buffalo and Platte River Resource Management Plans.

SUMMARY: The Buffalo and Casper Field Offices of the Bureau of Land Management (BLM) in Wyoming are preparing an Environmental Impact Statement (EIS) for oil and gas development, including coalbed methane, in the Powder River Basin of Wyoming. A Notice of Intent to prepare the EIS was published in the Federal Register on June 21, 2000, pages 38571-38572. The scoping period was open from May 22, 2000 through July 31, 2000. Scoping meetings were held in Sheridan, Gillette, Buffalo, and Douglas, Wyoming, in June, 2000. This EIS will provide additional analysis under the National Environmental Policy Act for decisions in the Buffalo and Platte River Resource Management Plans (RMPs) related to oil and gas development. A reasonably foreseeable oil and gas development scenario will be included to aid in analyzing impacts. Land use plan decisions that will be evaluated and may be amended include the following:

—Areas open (or closed) to oil and gas development.

—Lease stipulations or mitigation measures necessary for coalbed methane development.

—Other decisions as appropriate.

This Notice satisfies the requirements in the regulations at 43 CFR 1610.2(c) for amending an RMP.

DATES: Meeting dates and other public participation activities will be announced in public notices, the local media, or in letters sent to interested and potentially affected parties. Persons wishing to participate in this amendment process and wishing to be placed on mailing lists must notify the Buffalo Field Office at the address and phone number below. If you wish to comment on the proposed planning criteria please submit your comments by January 10, 2001. The public may review the Buffalo and Platte River Resource Management Plans at the address below.

ADDRESSES: Please submit comments to: Buffalo Field Office, Bureau of Land Management, Attn: Paul Beels, 1425 Fort Street, Buffalo, WY 82834.

FOR FURTHER INFORMATION CONTACT: Paul Beels, Powder River Oil and Gas EIS Project Leader, BLM Buffalo Field Office, at the above address or at (307) 684-1100.

Freedom of Information Act Considerations: Public comments submitted for this planning amendment, including names and street addresses of respondents, will be available for public review and disclosure at the Buffalo Field Office during regular business hours (8:00 a.m. to 4:30 p.m.), Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

SUPPLEMENTARY INFORMATION: The area analyzed is the Powder River Basin of Wyoming. The Buffalo Field Office area encompasses all of Campbell, Sheridan and Johnson Counties. The 1985 Buffalo Resource Management Plan (RMP) was revisited and evaluated from 1992 through 1997. This process included public participation. The evaluation resulted in determining that the RMP planning and management decisions were still valid. Environmental analyses were conducted and documented on a variety of coalbed methane (CBM) project proposals through the 1990s. These include the Pistol Point, Marquiss, Lighthouse, Gillette North, Gillette South, and Wyodak CBM project proposals. Each of these environmental analyses covered the effects of the proposed actions and alternatives, including the cumulative effects of the projects combined with other development and actions within the area. Based on the evaluation of these project proposals in regard to the scope and meaning of the Buffalo RMP decisions, it was determined that amendments to the RMP (i.e., changing, adding or deleting RMP decisions) were not necessary. Although specific amendments to the RMP decisions were not needed, each of the analyses for these project proposals served to supplement and update the analysis in the EIS for the Buffalo RMP.

The portion of the Platte River Field Office area included in the analysis encompasses the northern portion of Converse County including Township 40 north through Township 35 north, approximately 1,279,450 acres. The Platte RMP was approved in July 1985.

An interdisciplinary team including disciplines and staff expertise appropriate to the issues identified will be utilized in the analysis. The State of Wyoming and the U.S. Forest Service are cooperating agencies in the EIS.

Issues raised during preliminary scoping meetings that need to be addressed include:

—Aquifers: the quantity, quality, and distribution of surface water and the potential to affect current uses of water; and the potential to affect soils, geologic hazards, and the extraction of mineral resources other than conventional oil and gas and coalbed methane.

—Air quality and visibility.

—Wildlife and their habitats.

—Fisheries and aquatic habitats.

—Ecological integrity, public land health, and biological diversity.

—Species of special concern, particularly threatened, endangered and candidate, or sensitive species of plants and animals.

—Rangeland resources and grazing.

—Cultural resources, paleontological, natural history, and Native American concerns.

—Recreational opportunities and the recreational experiences.

—Aesthetics.

—Local economy.

—Human health and safety.

The public is invited to identify other issues and concerns that should be addressed in the planning process and to comment on those identified above. These issues will be refined based on public comments and used in the development of the Powder River Basin Oil and Gas environmental impact statement (EIS), and any necessary amendments to the Buffalo and Platte River Resource Management Plans (RMPs).

The following proposed “Planning Criteria” have been developed to assist in preparing the Powder River Basin Oil and Gas EIS and to comply with the Bureau of Land Management (BLM) planning regulations in addressing any needed amendments to the Buffalo and Platte River RMPs. Those RMPs provide the general management direction for the BLM-administered public lands and Federal mineral estate in the portions of Wyoming to be addressed in the Powder River Basin Oil and Gas EIS.

The establishment of planning criteria (43CFR 1610.4-2) guides development of the RMP amendment to ensure that it is tailored to issues previously identified and to avoid unnecessary data collection and analyses. Planning criteria are based on applicable laws, regulations, and Director and State Director guidance, as well as the results of public participation and coordination with other State and local governments, Federal agencies, and Indian tribes. Planning criteria may be changed as the planning process proceeds, based on public input and the results of studies and assessments.

BLM is proposing the following planning criteria for consideration in one or more of the alternatives:

1. The plan amendment will set forth a framework for managing the drilling of coalbed methane wells in an environmentally responsible manner consistent with applicable laws and regulations.

2. Management of coalbed methane produced water will be recognized in the plan.

Criteria for Analyzing Environmental Consequences

The following potential environmental consequences will be addressed.

—The effects of oil and gas development and other uses of groundwater on aquifers.

—The effects of oil and gas development and other activities on the quality of surface water, and the potential to affect the current uses of those surface waters.

—The effects of oil and gas development and other activities on the quantity and distribution of surface water.

—The effects of oil and gas development and other activities on the areas geology, geologic hazards, and the extraction of other mineral resources.

—The effects of oil and gas development and other activities on air quality and visibility.

—The effects of oil and gas development and other activities on vegetative communities, including wetlands and riparian areas.

—The effects of oil and gas development and other surface-disturbing and disruptive activities on wildlife and their habitats, particularly key species and habitats.

—The effects of oil and gas development and other surface-disturbing and disruptive activities on fisheries and aquatic habitats.

—The effects of oil and gas development and other surface-disturbing and disruptive activities on species of special concern, particularly threatened, endangered, candidate, or sensitive species of plants and animals.

—The effects of oil and gas development and other activities on the areas ecological integrity and biological diversity.

—The effects of oil and gas development and other surface-disturbing activities on rangeland resources and grazing operations.

—The effects of oil and gas development and other surface-disturbing and disruptive activities on cultural, historic, and paleontological resources, and Native Americans.

—The effects of oil and gas development and other surface-disturbing activities on recreational opportunities and experiences.

—The effects of oil and gas development and other surface-disturbing and disruptive activities on scenic values and aesthetics.

—The effects of oil and gas development on the local economy.

—The effects of oil and gas development on human health and safety.

Criteria for Selecting the Preferred Alternative

The following considerations will guide selection of the preferred alternative.

—The level of land use restrictions needed to protect resources and keep the public lands and resources available for public use.

—The potential for the occurrence and development of mineral resources, including conventional oil and gas and coalbed methane production, and coal mining.

—Consistency with the land use plans, programs, and policies of other Federal agencies, State and local governments, and Native American tribes.

—Compliance with the Standards for Healthy Rangelands and Guidelines for Livestock Grazing Management for the Public Lands Administered by the Bureau of Land Management in the State of Wyoming (August 12, 1997).

This notice also serves as a request for coal resource information, Pursuant to 43 CFR 3420.1-2, and a request to identify any substantiated interest in future leasing and development of Federal coal in the area to be addressed by the Powder River Basin Oil and Gas EIS. Specifically, information is requested on the location, quality and quantity of Federal coal with development potential, and on surface resource values related to the twenty coal unsuitability criteria described in 43 CFR 3481.1. This information will be used for any necessary update of the coal screening determinations (43 CFR 3420.1-4) in the area, for purposes of the environmental analysis for the Powder River Basin EIS, and for any necessary update or amendment of the Buffalo and Platte River RMPs. Information concerning areas of coal leasing interest, coal resource data, and other resource information related to the coal unsuitability criteria must be submitted to the Buffalo Field Office at the address above.

Dated: November 14, 2000.
Alan L. Kesterke,
Associate State Director.

[FR Doc. 00-29722 Filed 11-20-00; 8:45 am]

BILLING CODE 4310-22-P